DEPARTMENT OF HOMELAND SECURITY

Coast Guard

[Docket No. USCG-2011-0138]

Merchant Mariner Medical Advisory Committee

AGENCY: Coast Guard, Department of Homeland Security.

ACTION: Notice of Federal Advisory Committee meeting.

SUMMARY: The Merchant Mariner Medical Advisory Committee will meet to discuss matters relating to medical certification determinations for issuance of licenses, certificates of registry, merchant mariners' documents, medical standards and guidelines for the physical qualifications of operators of commercial vessels, medical examiner education, and medical research. The meeting will be open to the public.

DATES: The Merchant Mariner Medical Advisory Committee will meet on Monday, September 29 and Tuesday, September 30, 2014, from 8 a.m. to 4:30 p.m. and 8 a.m. to 5 p.m. respectively. Please note that the meeting may close early if the committee has completed its business. All submitted written materials, comments, and requests to make oral presentation at the meeting should reach Lieutenant Ashley Holm, Alternate Designated Federal Officer for the Merchant Mariner Medical Advisory Committee, no later than September 19, 2014. For contact information, please see the FOR FURTHER INFORMATION CONTACT section below. Any written material submitted by the public both before and after the meeting will be distributed to the Merchant Mariner Medical Advisory Committee and become part of the public record.

ADDRESSES: The meeting will be held at the Paul Hall Center for Maritime Training and Education, 2nd floor conference room (Maryland Room), 45353 St. Georges Avenue, Piney Point, Maryland 20674-0075. For further information about the Paul Hall Center hotel facilities, please contact Mr. Howard Thompson at (301) 994-0010 Ext. 5463.

For information on services for individuals with disabilities or to request special assistance at the meeting, contact the individual listed in the FOR FURTHER INFORMATION CONTACT section as soon as possible. Please be advised that all attendees will be required to provide identification in the form of a government-issued picture identification card in order to gain admittance to the facility. If you plan to attend, please notify the Merchant Mariner Medical Advisory Committee Alternate Designated Federal Officer as soon as possible to assist with the administrative access into the Paul Hall Center prior to arrival.

To facilitate public participation, we are inviting public comment on the issues to be considered by the committee as listed in the “Agenda” section below. Written comments must be submitted no later than September 19, 2014 if you want committee members to be able to review it before the meeting, and must be identified by docket number USCG-2011-0138 and submitted by one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal holidays. The telephone number is 202-366-9329.

Instructions: All submissions must include the words “Department of Homeland Security” and the docket number for this action. All comments submitted will be posted without alteration at http://www.regulations.gov, including any personal information provided. You may review a Privacy Act notice regarding our public dockets in the January 17, 2008, issue of the Federal Register (73 FR 3316).

Docket: For access to the docket to read documents or comments related to this Notice, go to http://www.regulations.gov, insert USCG-2011-0138 in the “SEARCH” box, press Enter and then click on the item you wish to view.

A public comment period will be held on September 29, 2014, from approximately 11 a.m.-11:30 a.m. Speakers are requested to limit their comments to 5 minutes. Please note that the public comment period may end before the time indicated, following the last call for comments. Additionally, public comment will be sought throughout the meeting as specific issues are discussed by the committee. Contact Lieutenant Ashley Holm as indicated below to register as a speaker.

FOR FURTHER INFORMATION CONTACT: Lieutenant Ashley Holm, the Merchant Mariner Medical Advisory Committee Alternate Designated Federal Officer, at telephone 202-372-1128 or email Ashley.e.holm@uscg.mil. If you have any questions on viewing or submitting material to the docket, call Cheryl Collins, Program Manager, Docket Operations, telephone 202-366-9826 or 1-800-647-5527.

SUPPLEMENTARY INFORMATION: Notice of this meeting is given under the Federal Advisory Committee Act, 5 U.S.C. Appendix. The Merchant Mariner Medical Advisory Committee Meeting is authorized by 46 U.S.C. 7115 and advises the Secretary on matters related to (a) medical certification determinations for issuance of licenses, certificates of registry, and merchant mariners' documents; (b) medical standards and guidelines for the physical qualifications of operators of commercial vessels; (c) medical examiner education; and (d) medical research.

A copy of all meeting documentation is available at https://homeport.uscg.mil by using these key strokes: Missions; Port and Waterways; Safety Advisory Committees; MMMAC and then use the announcements key. Alternatively, you may contact Lieutenant Ashley Holm as noted in the FOR FURTHER INFORMATION CONTACT section above.

Agenda

Day 1

The agenda for September 29, 2014 meeting is as follows:

(1) Remarks from the Vice President, Paul Hall Center.

(2) Opening remarks from the Assistant Commandant for Prevention Policy.

(3) Opening remarks from the Designated Federal Officer.

(4) Swearing-in of new committee members.

(5) Roll call of committee members and determination of a quorum.

(6) Review of last full committee meeting's minutes.

(7) Presentation on sleep disorders in merchant mariners.

(8) Public comments.

(9) Introduction of new task(s).

(10) Working Groups addressing the following task statements may meet to deliberate—

(a) Task Statement 1, Revision of Navigation and Vessel Inspection Circular 04-08. The Navigation and Vessel Inspection Circular can be found at http://www.uscg.mil/hq/cg5/nvic/ Medical and Physical Guidelines for Merchant Mariner Credentials.

(b) Task Statement 4, Revising the CG-719K Medical Evaluation Report Form for mariner physicals. The form can be found at http://www.uscg.mil/nmc.

(c) Task Statement 5, Creating medical expert panels for the top medical conditions to analyze and determine proper implementation of required medical testing and minimum compliance.

(d) Task Statement 6, Review of current statutory and regulatory medical requirements for merchant mariner credentialing.

(e) The Committee will receive new task statements from the Coast Guard, review the information presented on each issue, deliberate and formulate recommendations for the Department's consideration.

(11) Adjournment of meeting.

Day 2

The agenda for September 30, 2014 meeting is as follows:

(1) Continue work on Task Statements.

(2) By mid-afternoon, the Working Groups will report, and if applicable, make recommendations for the full committee to consider for presentation to the Coast Guard. The committee may vote on the working group's recommendations on this date. The public will have an opportunity to speak after each Working Group's Report before the full committee takes any action on each report.

(3) Closing remarks/plans for next meeting.

(4) Adjournment of Meeting.

Dated: August 21, 2014.
J.C. Burton,
Captain, U.S. Coast Guard, Director of Inspections and Compliance.

[FR Doc. 2014-21043 Filed 9-3-14; 8:45 am]

BILLING CODE 9110-04-P